DEPARTMENT OF HEALTH AND HUMAN SERVICES

National Institutes of Health

Submission for OMB Review; 30-Day Comment Request; Scientific Information Reporting System (SIRS) (National Institute of General Medical Sciences)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Ming Lei, Director, Division for Research Capacity Building, NIGMS, NIH, Natcher Building, Room 2AS44C, 9000 Rockville Pike, Bethesda, MD 20892, or call non-toll-free number (301) 827-5323 or Email your request, including your address to: leim@mail.nih.gov.

SUPPLEMENTARY INFORMATION: This proposed information collection was previously published in the Federal Register on August 12, 2022, page 49875 (87 FR 49875) and allowed 60 days for public comment. No public comments were received. The purpose of this notice is to allow an additional 30 days for public comment. The National Institute of General Medical Sciences (NIGMS), National Institutes of Health, may not conduct or sponsor, and the respondent is not required to respond to, an information collection that has been extended, revised, or implemented on or after October 1, 1995, unless it displays a currently valid OMB control number.

In compliance with section 3507(a)(1)(D) of the Paperwork Reduction Act of 1995, the National Institutes of Health (NIH) has submitted to the Office of Management and Budget (OMB) a request for review and approval of the information collection listed below.

Proposed Collection: Scientific Information Reporting System (SIRS), 0925-0735—Expiration Date 10/31/2022, EXTENSION, National Institutes of General Medical Sciences (NIGMS), National Institutes of Health (NIH).

Need and Use of Information Collection: The SIRS is an online data collection system whose purpose is to obtain supplemental information to the annual Research Performance Progress Report (RPPR) submitted by grantees of the Institutional Development Award (IDeA) Program and the Native American Research Centers for Health (NARCH) Program. The SIRS will collect program-specific data not requested in the RPPR data collection system. The IDeA Program is a congressionally mandated, long-term interventional program administered by NIGMS aimed at developing and/or enhancing the biomedical research competitiveness of States and Jurisdictions that lag in NIH funding. The NARCH Program is an interagency initiative that provides support to American Indian and Alaska Native (AI/AN) tribes and organizations for conducting research in their communities in order to address health disparities, and to develop a cadre of competitive AI/AN scientists and health professionals. The data collected by SIRS will provide valuable information for the following purposes: (1) evaluation of progress by individual grantees towards achieving grantee-designated and program-specified goals and objectives, (2) evaluation of the overall program for effectiveness, efficiency, and impact in building biomedical research capacity and capability, and (3) analysis of outcome measures to determine need for refinements and/or adjustments of different program features including but not limited to initiatives and eligibility criteria. Data collected from SIRS will be used for various regular or ad hoc reporting requests from interested stakeholders that include members of Congress, state and local officials, other federal agencies, professional societies, media, and other parties.

OMB approval is requested for 3 years. There are no costs to respondents other than their time. The total estimated annualized burden hours are 760.

Estimated Annualized Burden Hours
Form name | Type of respondent | Number of respondents | Number of responses per respondent | Average time per response (in hours) | Total annual burden hours
SIRS | Principal Investigators, COBRE Phase I | 61 | 1 | 4 | 244
SIRS | Principal Investigators, COBRE Phase II | 40 | 1 | 4 | 160
SIRS | Principal Investigators, COBRE Phase III | 15 | 1 | 4 | 60
SIRS | Principal Investigators, INBRE | 24 | 1 | 6 | 144
SIRS | Principal Investigators, IDeA-CTR | 8 | 1 | 4 | 32
SIRS | Principal Investigators, NARCH | 24 | 1 | 5 | 120
Total |  | 172 | 172 |  | 760

Dated: October 12, 2022.
David N. Bochner,
Project Clearance Liaison, National Institute of General Medical Sciences, National Institutes of Health.

[FR Doc. 2022-22468 Filed 10-14-22; 8:45 am]

BILLING CODE 4140-01-P